DEPARTMENT OF TREASURY

Internal Revenue Service

Appointment of Members of the Legal Division to the Performance Review Board, Internal Revenue Service

Under the authority granted to me as Acting Chief Counsel of the Internal Revenue Service by the General Counsel of the Department of the Treasury by General Counsel Directive 15, pursuant to the Civil Service Reform Act, I have appointed the following persons to the Legal Division Performance Review Board, Internal Revenue Service Panel:

1. William M. Paul, Acting Chief Counsel/Deputy Chief Counsel (Technical)

2. Elizabeth C. Hadden, Deputy Division Counsel/Deputy Associate Chief Counsel (Criminal Investigation)

3. Mark S. Kaizen, Associate Chief Counsel (General Legal Services)

4. Rachel D. Levy, Associate Chief Counsel (Employee Benefits, Exempt Organizations, and Employment Taxes)

5. Joseph W. Spires, Associate Chief Counsel (Small Business and Self-Employed)

Alternate: Kathryn A. Zuba, Associate Chief Counsel (Procedures and Administration)

This publication is required by 5 U.S.C. 4314(c)(4).

William M. Paul,
Chief Counsel (Acting), Internal Revenue Service.

[FR Doc. 2023-22417 Filed 10-6-23; 8:45 am]

BILLING CODE 4830-01-P